SUSQUEHANNA RIVER BASIN COMMISSION

Commission Meeting

AGENCY: Susquehanna River Basin Commission.

ACTION: Notice.

SUMMARY: The Susquehanna River Basin Commission will conduct its regular business meeting on December 17, 2021, from Harrisburg, Pennsylvania. Details concerning the matters to be addressed at the business meeting are contained in the Supplementary Information section of this notice. Also the Commission published a document in the Federal Register on November 10, 2021, concerning its public hearing on December 2, 2021, in Harrisburg, Pennsylvania.

DATES: The meeting will be held on Friday, December 17, 2021, at 9 a.m.

ADDRESSES: The meeting will be conducted in person and digitally from the Susquehanna River Basin Commission, 4423 N Front Street, Harrisburg, PA 17110.

FOR FURTHER INFORMATION CONTACT: Jason E. Oyler, General Counsel and Secretary to the Commission, telephone: 717-238-0423; fax: 717-238-2436.

SUPPLEMENTARY INFORMATION: The business meeting will include actions or presentations on the following items: (1) Adoption of a policy, Fee Incentives for the Withdrawal and Consumptive Use of AMD Impacted Waters & Treated Wastewater (formerly the draft of Use of Lesser Quality Waters Policy); (2) adoption of the 2022 Regulatory Program Fee Schedule; (3) ratification of the Letter of Understanding regarding program coordination between the Susquehanna River Basin Commission and the Pennsylvania Department of Environmental Protection; (4) ratification of contracts/grants; and (5) Regulatory Program projects including one Commission-initiated project approval modification and one out-of-basin diversion.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Commission's headquarters and digitally. The public is invited to attend the Commission's business meeting. You can access the Business Meeting through a computer (Audio and Video) by following the link: https://srbc.webex.com/srbc/j.php?MTID=mf5dfaebf7a543cc6f92dcafdd1007d8a then enter meeting number 177 499 9312 and password Dec17CommMtg. You may also participant telephonically by dialing 1-877-668-4493 and entering the meeting number 177 499 9312 followed by the # sign.

Written comments pertaining to items on the agenda at the business meeting may be mailed to the Susquehanna River Basin Commission, 4423 North Front Street, Harrisburg, Pennsylvania 17110-1788, or submitted electronically through www.srbc.net/about/meetings-events/business-meeting.html. Such comments are due to the Commission on or before December 13, 2021. Comments will not be accepted at the business meeting noticed herein.

Authority: Pub. L. 91-575, 84 Stat. 1509 et seq., 18 CFR parts 806, 807, and 808.

Dated: November 8, 2021
Jason E. Oyler,
General Counsel and Secretary to the Commission.

[FR Doc. 2021-24702 Filed 11-10-21; 8:45 am]

BILLING CODE 7040-01-P